DEPARTMENT OF DEFENSE

Office of the Secretary

Executive Order 14251 Certification

AGENCY: Department of Defense (DoD).

ACTION: Notice of certification.

SUMMARY: The notice announces publication of the certification from the Secretary of Defense to the President that the provisions of the Federal Service Labor Management Relations Statute can be applied to the subdivisions listed in the SUPPLEMENTARY INFORMATION section in a manner consistent with national security requirements and consideration.

FOR FURTHER INFORMATION CONTACT: Tim Dill, (703) 697-2121.

SUPPLEMENTARY INFORMATION: I specifically concur with the President's determinations as set forth in Executive Order 14251, Section 1(b). Specifically, I agree that the Department of Defense has as a primary function national security work, and the requirements of Chapter 71 of title 5 cannot be applied to its operations consistent with national security requirements and considerations.

Pursuant to section l-499 of Executive Order 14251, Exclusions from Federal Labor Management Relations Programs, dated March 27, 2025, I hereby determine and certify to the President of the United States that the provisions of the Federal Service Labor-Management Relations Statute can be applied to the following federal wage system employees in the trades at the following DoD component subdivisions in a manner consistent with national security requirements and considerations.

(a) Letterkenny Munition Center, US Army Aviation and Missile Command, United States Army.

(b) Air Force Test Center, Air Force Materiel Command, Department of Air Force.

(c) Air Force Sustainment Center, Air Force Materiel Command, Department of Air Force.

(d) Fleet Readiness Center Southeast.

This determination and certification shall be transmitted to the President of the United States and published in the Federal Register.

Signing Authority

Pete Hegseth, Secretary of Defense, approved this document on April 17, 2025, and authorized the undersigned to sign and submit the document to the Office of the Federal Register for publication electronically as an official document of the Department of Defense.

Dated: April 17, 2025.
Jules W. Hurst III,
Deputy Assistant Secretary of Defense for Force Readiness, Performing the Duties of the Assistant Secretary of Defense for Readiness, Performing the Duties of the Under Secretary of Defense for Personnel and Readiness.

[FR Doc. 2025-07054 Filed 4-22-25; 8:45 am]

BILLING CODE 6001-FR-P